DEPARTMENT OF THE INTERIOR

Bureau of Land Management

[WO-310-1310-01-24 1A-PB]

OMB Approval Number 1004-0134; Information Collection Submitted to the Office of Management and Budget for Review Under the Paperwork Reduction Act

The Bureau of Land Management (BLM) has submitted the proposed collection of information listed below to the Office of Management and Budget (OMB) for approval under the provisions of the Paperwork Reduction Act (44 U.S.C. Chapter 3501 et seq.). On August 22, 2000, the BLM published a notice in the Federal Register (65 FR 51019) requesting comments on the collection. The comment period ended October 23, 2000. No comments were received. Copies of the proposed collection of information and related forms and explanatory material may be obtained by contacting the BLM Clearance Officer at the telephone number listed below.

OMB is required to respond to this request within 60 days but may respond after 30 days. For maximum consideration your comments and suggestions on the requirement should be made within 30 days directly to the Office of Management and Budget, Interior Department Desk Officer (1004-0134), Office of Information and Regulatory Affairs, Washington, D.C., 20503. Please provide a copy of your comments to the Bureau Clearance Officer (WO-630), 1849 C St., N.W., Mail Stop 401 LS, Washington, D.C. 20240.

Nature of Comments: We specifically request your comments on the following:

1. Whether the collection of information is necessary for the proper functioning of the Bureau of Land Management, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical, or other forms of information technology.

Title: Onshore Oil and Gas Operations Nonform Items (as required by 43 CFR 3160).

OMB Approval Number: 1004-0134.

Abstract: Federal and Indian (except Osage) oil and gas operators and operating rights owners are required to retain and/or provide data so that proposed operations may be approved or compliance with granted approvals may be monitored.

Bureau Form Numbers: None.

Frequency: On occasion and nonrecurring.

Description of Respondents: Operators and operating rights owners of Federal and Indian (except Osage) oil and gas leases.

Estimated Completion Time:

Information collection (43 CFR) | Requirement | Hours per response | Burden hours | Respondents
3162.3-1(a) | Well-Spacing Program | .5 | 75 | 150
3162.3-1(e) | Drilling Plans | 8 | 23,000 | 2,875
3162.6 | Well Markers | .5 | 150 | 300
3162.5-2(b) | Direction Drilling | 1 | 165 | 165 or 5% of wells
3162.4-2(a) | Drilling Tests, Logs, Surveys | 1 | 330 | 330 or 10% of wells
3162.3-4(a) | Plug and Abandon for Water Injection | 1.5 | 1,800 | 1,200
3162.3-4(b) | Plug and Abandon for Water Source | 1.5 | 1,800 | 1,200
3162.7-1(d) | Additional Gas Flaring | 1 | 400 | 400
3162.5-1(c) | Report of Spills, Discharges, or Other Undesirable Events | 2 | 400 | 200
3162.5-1(b) | Disposal of Produced Water | 2 | 3,000 | 1,500
3162.5-1(d) | Contingency Plan | 16 | 800 | 50
3162.4-1(a) and 3162.7-5(d)(1) | Schematic/Facility Diagrams | 4 | 9,400 | 2,350
3162.7-1(b) | Approval and Reporting of Oil in Pits | .5 | 260 | 520
3164.1 (Order No. 3) | Prepare Run Tickets | .2 | 18,000 | 90,000
3162.7-5(b) | Records on Seals | .2 | 18,000 | 90,000
3165.1(a) | Application for Suspension | 8 | 800 | 100
3165.3(b) | State Director Review | 16 | 1,600 | 100
3162.7-5(c) | Site Security | 7 | 16,905 | 2,415
Totals |  |  | 96,885 | 193,855

Annual Responses: 193,855.

Annual Burden Hours: 96,885.

Filing Fee Per Response: 0.

Bureau Clearance Officer: Michael Schwartz, (202) 452-5033.

Dated: November 14, 2000.
Michael Schwartz,
BLM Information Collection Clearance Officer.

[FR Doc. 00-30892 Filed 12-4-00; 8:45 am]

BILLING CODE 4310-84-M